DEPARTMENT OF TRANSPORTATION

Federal Highway Administration

Notice of Final Federal Agency Actions on Proposed Highways in Wisconsin

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to various proposed highway projects in the State of Wisconsin. Those actions grant licenses, permits, and approvals for the projects.

DATES: By this notice, the FHWA is advising the public of final agency actions subject to 23 U.S.C. 139(l)(1). A claim seeking judicial review of the Federal agency actions on any of the listed highway projects will be barred unless the claim is filed on or before September 11, 2006. If the Federal law that authorizes judicial review of a claim provides a time period of less than 180 days for filing such claim, then that shorter time period still applies.

FOR FURTHER INFORMATION CONTACT: Jaclyn Lawton, Environmental Programs Engineer, Federal Highway Administration, 567 D'Onofrio Drive, Suite 100, Madison, WI 53719. Office Hours are 7:30 a.m. to 4:15 p.m. Central Time, (608) 829-7517, Jaclyn.Lawton@fhwa.dot.gov or Eugene Johnson, Director, Bureau of Equity and Environmental Services, Wisconsin Department of Transportation, P.O. Box 7965, Madison, WI 53707-7965, Office Hours 8 a.m.-4:30 p.m. Central Time, (608) 267-9527, eugene.johnson@dot.state.wi.us.

SUPPLEMENTARY INFORMATION: Notice is hereby given that the FHWA and other Federal agencies have taken final agency actions by issuing licenses, permits, and approvals for the highway projects in the State of Wisconsin that are listed below. The actions by the Federal agencies on a project, and the laws under which such actions were taken, are described in the environmental impact statement (EIS) or Environmental Assessment (EA)/Finding of No Significant Impact (FONSI), issued in connection with the project, and in other documents in the FHWA administrative record for the project. The FEIS, EA/FONSI and other documents from the FHWA administrative record files for the listed projects are available by contacting the FHWA or the Wisconsin Department of Transportation at the addresses provided above. FEIS and Record of Decision (ROD) documents can be viewed at the FHWA Division Office, viewed at public libraries in the relevant project area, or when available at http://www.dot.wisconsin.gov. This notice applies to all Federal agency decisions on the listed projects as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Coastal Zone Management Act, 16 U.S.C. 1451-1465; Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

The Projects Subject to This Notice Are:

1. Project Location: Sauk County, USH 12, I-90/94 to Ski Hi Road. Project Reference Number: FHWA-WIS-EIS-96-02-F, WisDOT ID 1674-00-00. Project type: USH 12, Lake Delton to Sauk City is an 11.6 mile section which includes an ultimate four-lane expansion of the highway with on-alignment and bypass elements for this principal east-west connector route across south-central Wisconsin. Areas of particular concern include potential effects to the adjacent Baraboo Hills and the Baraboo Range National Natural Landmark. NEPA document: FEIS October 21, 2004, ROD February 10, 2005. http://www.dot.wisconsin.gov/projects/d1/docs/us12news0505.pdf.

2. Project Location: State Trunk Highways 36, 11, and 83; Racine and Walworth Counties, Burlington Bypass. Project Reference Number: FHWA-WIS-EIS-96-01-F, WisDOT ID3180-08-00. Project type: The recommended 11.0 mile alternative will provide a rural four-lane divided expressway on new alignment for two principle arterial, and two minor arterial and two major collector highways around the west, south, and east sides of the City of Burlington. NEPA document: FEIS June 1, 2004, ROD March 1, 2005. http://www.dot.wisconsin.gov/projects/d2/burl/index.htm.

3. Project Location: STH 26, Janesville to Watertown; Rock, Jefferson and Dodge Counties. Project Reference Number: FHWA-WIS-EIS-00-01-F, WisDOT ID1390-04-00. Project type: STH 26 is located in south-central Wisconsin. The project begins on the north side of Janesville at IH 90 and extends north about 48 miles to north of Watertown at STH 60-East. Existing highway corridors will be used to the extent practical using expressway standards. Freeway access control standards will be used for the bypass portions of the route. NEPA document: FEIS June 15, 2005 ROD September 27, 2005. http://www.dot.wisconsin.gov/projects/d1/wis26/index.htm.

4. Project Location: USH 10, Trestik Road—CTH K; Portage County, Steven's Point Bypass. Project Reference Number: FHWA-WIS-EIS-00-01-F, WisDOT ID 6351-00-00. Project type: This project is part of a Tiered EIS. USH 10 is a major east-west highway. The Steven's Point Bypass section extends for about 26 miles and will be built to 4-lane divided expressway standards. Locating the crossing of the Wisconsin River and associated wetlands was an important issue. NEPA document: FEIS November 15, 2004, ROD May 17, 2005.

5. Project Location: USH 41, Oconto to Peshtigo; Marinette and Oconto Counties. Project Reference Number: FHWA-WIS-EIS-2005-02-F, WisDOT ID 1154-01-00. Project type: USH 41 is a principal arterial highway providing a vital north south-transportation link between southeastern Wisconsin and Michigan. The route extends for about 21 miles and will be built to 4-lane divided expressway standards. Effects on wetlands was of special concern. NEPA document: FEIS September 13, 2005, ROD December 15, 2005. http://www.dot.wisconsin.gov/projects/d3/us41oconto/index.htm.

6. Project Location: City of Sturgeon Bay, Crossings of Ship Canal; Door County. Project Reference Number: WisDOT ID 4997-00-17, 18, 38. Project type: New crossing of Sturgeon Bay Ship Canal on Maple-Oregon Corridor to meet additional capacity needs, and later rehabilitation of historic bridge crossing on Michigan Street, and approaches. NEPA document: Environmental Assessment November 8, 2001, Finding of No Significant Impact February 7, 2006. http://www.dot.wisconsin.gov/projects/d3/michigan/index.htm.

(Catalog of Federal Domestic Assistance Program Number 20.205, Highway Planning and Construction. The regulations implementing Executive Order 12372 regarding intergovernmental consultation on Federal programs and activities apply to this program.)

Authority: 23 U.S.C. 139(l)(1) and (2).

Issued on: March 9, 2006.
Jaclyn Lawton,
Environmental Programs Engineer, Madison, Wisconsin.

[FR Doc. E6-3725 Filed 3-14-06; 8:45 am]

BILLING CODE 4910-22-P